SECURITIES AND EXCHANGE COMMISSION

Sunshine Act Meeting

Federal Register Citation of Previous Announcement: [72 FR 5090, February 2, 2007]

STATUS: Closed Meeting.

PLACE: 100 F Street, NE., Washington, DC.

DATE AND TIME OF PREVIOUSLY ANNOUNCED MEETING: Thursday, February 8, 2007 at 2 p.m.

CHANGE IN THE MEETING: Time Change.

The Closed Meeting scheduled for Thursday, February 8, 2007 at 2 p.m. has been changed to Thursday, February 8, 2007 at 10 a.m.

At times, changes in Commission priorities require alterations in the scheduling of meeting items. For further information and to ascertain what, if any, matters have been added, deleted or postponed, please contact the Office of the Secretary at (202) 551-5400.

Dated: February 6, 2007.
Nancy M. Morris,
Secretary.

[FR Doc. 07-610 Filed 2-7-07; 10:52 am]

BILLING CODE 8010-01-P